DEPARTMENT OF COMMERCE

National Oceanic and Atmospheric Administration

[I.D. 071006E]

Marine Mammals; Photography Permit Application No. 1100-1849

AGENCY: National Marine Fisheries Service (NMFS), National Oceanic and Atmospheric Administration (NOAA), Commerce.

ACTION: Notice; receipt of application.

SUMMARY: Notice is hereby given that Shane Moore, Moore & Moore Films, Box 2980, 1203 Melody Creek Lane, Jackson, Wyoming 83001 has applied in due form for a permit to conduct commercial/educational photography of killer whales (Orcinus orca), gray whales (Eschrichtius robustus), and minke whales (Balaenoptera acutorostrata).

DATES: Written, telefaxed, or e-mail comments must be received on or before August 18, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1100-1849

FOR FURTHER INFORMATION CONTACT: Kelsey Abbott or Carrie Hubard, (301)713-2289.

SUPPLEMENTARY INFORMATION: The subject permit is requested under the authority of section 104(c)(6) of the Marine Mammal Protection Act of 1972, as amended (16 U.S.C. 1361 et seq.), the regulations governing the taking and importing of marine mammals (50 CFR part 216). Section 104(c)(6) provides for photography for educational or commercial purposes involving non-endangered and non-threatened marine mammals in the wild. NMFS is currently working on proposed regulations to implement this provision. However, in the meantime, NMFS has received and is processing this request as a “pilot” application for Level B Harassment of non-listed and non-depleted marine mammals for photographic purposes.

The applicant proposes to take 10 killer whales of the Eastern North Pacific Transient stock, 10 gray whales, and 10 minke whales annually by close approach for filming in the Gulf of Alaska and Bering Sea. The purpose of this project is to document the behavior of marine animals in the presence of the carcass of a gray or minke whale that was killed by killer whales. The applicant requests authorization to fix a remotely operated video camera in an underwater housing to the sea floor approximately 15 feet from the carcass. The camera would be deployed after the killer whales have left the carcass and would be controlled from a boat approximately 100 yards away. In addition, if killer whales, gray whales, or minke whales pass near the boat, the applicant would submerge a small camera on a pole to take photographs of passing animals. This footage would be shared freely with the scientific community as it may reveal to what extent killer whales continue to feed on submerged kills, how they feed on these carcasses, and document what other animals may benefit from these carcasses as well. Filming activities would occur between April 1 and August 31 of each year. The permit would expire three years from the date of issue.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: July 13, 2006.
P. Michael Payne,
Chief, Permits, Conservation and Education Division, Office of Protected Resources, National Marine Fisheries Service.

[FR Doc. E6-11453 Filed 7-18-06; 8:45 am]

BILLING CODE 3510-22-S